ENVIROMENTAL PROTECTION AGENCY

[FRL-9234-9]

Clean Air Act Operating Permit Program; Petition To Object to Title V Permit for Luke Paper Company, Luke, MD

AGENCY: Environmental Protection Agency (EPA).

ACTION: Notice of final action.

SUMMARY: Pursuant to section 505(b)(2) of the Clean Air Act (CAA), the EPA Administrator signed an order, dated October 18, 2010, partially granting and partially denying a petition to object to a state operating permit issued by the Maryland Department of the Environment (MDE) on January 22, 2009 to Luke Paper Company for its facility located in Luke, Maryland. This order constitutes final action on the petition filed by the Environmental Integrity Project, and Environment Maryland, dated February 27, 2009, requesting that the Administrator object to the issuance of the proposed title V permit.

Pursuant to section 505(b)(2) of the CAA, the petitioner may seek judicial review of those portions of the petition which EPA denied in the United States Court of Appeals for the appropriate circuit. Any petition for review shall be filed within 60 days of this notice in accordance with the requirements of section 307 of the CAA.

ADDRESSES: Copies of the final order, the petition, and all pertinent information relating thereto are on file at the following location: Environmental Protection Agency, Region III, Air Protection Division (APD), 1650 Arch St., Philadelphia, Pennsylvania 19103. The final order is also available electronically at the following Web site: http://www.epa.gov/region07/air/title5/petitiondb/petitiondb.htm.

FOR FURTHER INFORMATION CONTACT: David Talley, Air Protection Division, EPA Region III, telephone (215) 814-2117, or by e-mail at talley.david@epa.gov.

SUPPLEMENTARY INFORMATION: The Clean Air Act (CAA) affords EPA a 45-day period to review and object to, as appropriate, operating permits proposed by state permitting authorities. Section 505(b)(2) of the CAA authorizes any person to petition the EPA Administrator within 60 days after the expiration of this review period to object to a state operating permit if EPA has not done so. Petitions must be based only on objections raised with reasonable specificity during the public comment period, unless the petitioner demonstrates that it was impracticable to raise these issues during the comment period or that the grounds for objection or other issue arose after the comment period.

EPA received a petition from the Petitioners, dated February 27, 2009, requesting that EPA object to the issuance of the proposed title V permit for Luke Paper Company because of, (1) Inadequate monitoring requirements for particulate matter; (2) failure of the permit to include a Compliance Assurance Monitoring (CAM) plan for boiler Nos. 24 and 25; and (3) failure of the permit to include emission limits for hazardous air pollutants (HAPs) for boiler Nos. 24 and 25 as required by Section 112(j) of the CAA. The order explains the reasons behind EPA's decision to partially grant and partially deny the petition for objection.

Dated: November 19, 2010.
W.C. Early,
Acting Regional Administrator, Region III.

[FR Doc. 2010-30349 Filed 12-2-10; 8:45 am]

BILLING CODE 6560-50-P